DEPARTMENT OF AGRICULTURE

Tribal Advisory Committee

AGENCY: Office of Tribal Relations, U.S. Department of Agriculture.

ACTION: Notice of public, hybrid meeting.

SUMMARY: Notice is hereby given, pursuant to the provisions of the rules and regulations of the U.S. Department of Agriculture (USDA) and the Federal Advisory Committee Act (FACA), the Office of Tribal Relations is announcing a meeting of the Tribal Advisory Committee. The Committee is authorized under the Agriculture Improvement Act of 2018 (the 2018 Farm Bill) and operates in compliance with the Federal Advisory Committee Act. The purpose of the Committee is to provide advice and guidance to USDA on matters related to Tribal and Indian affairs.

DATES: In person meetings with virtual webinar and call-in options will take place at the Palm's Casino Resort on Tuesday, December 10th, 2024, from 1 p.m. to approximately 5 p.m. Pacific standard time (PST) in Room Madison C/D and Wednesday, December 11th, 2024, from 9 a.m. to approximately 5 p.m. in the Kaos room. This venue is located at 4321 W Flamingo Rd., Las Vegas, NV 89103. Meeting room updates will be posted on https://www.usda.gov/tribalrelations/advisory-committee.

ADDRESSES:

Webinar Participation Information: Registration to attend this meeting, including to provide oral public comments, is available at https://www.zoomgov.com/webinar/register/WN_3wk0eEvGSduYZUL767g0hg.

Public Comments: The public may file written comments to the Tribal Advisory Committee by Thursday, December 5, 2024, via email at Tribal.Relations@usda.gov. Additional comments will be included in the public record.

Members of the public are invited to join the Tribal Advisory Committee meeting to listen to deliberations each day and will be invited to give oral comments to the Committee from 1:15 p.m. to 2:45 p.m. PST on Tuesday, December 10th. Members of the public who request to give oral comments to the Committee must arrive by 1:00 p.m. and will be given no more than five (5) minutes to provide their comment.

FOR FURTHER INFORMATION CONTACT: General information about the Committee can be found at https://www.usda.gov/tribalrelations/advisory-committee. Josiah Griffin, Designated Federal Officer, by phone at 202-205-2249 or via email at Josiah.Griffin@usda.gov. Individuals who use telecommunication devices for the deaf (TDD) may call the Federal Information Relay Service (FIRS) at 1-800-877-8339 between 8:00 a.m. and 8:00 p.m., Eastern Standard Time, Monday through Friday.

SUPPLEMENTARY INFORMATION: This meeting will be the fourth convening of the Tribal Advisory Committee. An agenda and more information for this meeting will be available at https://www.usda.gov/tribalrelations/advisory-committee.

The Secretary established the Committee pursuant to section 12303 of the Agriculture Improvement Act of 2018 (7 U.S.C. 6921(b)). The Committee is managed in accordance with the provisions of the Federal Advisory Committee Act, as amended, 5 U.S.C. 10. Under the law, the Secretary of Agriculture appointed three members, and the Chair and Ranking Members of the House Committee on Agriculture and the Senate Committees on Indian Affairs and Agriculture, Nutrition, and Forestry appointed the remaining eight members. In addition to providing recommendations to the Secretary, the Tribal Advisory Committee is required to submit report(s) to the three Congressional Committees listed above.

Availability of Materials for the Meeting: All written public comments will be compiled into a binder and will be made available for review at the meeting. Duplicate comments from multiple individuals will appear as one comment, with a notation that multiple copies of the comment were received. Please visit https://www.usda.gov/tribalrelations/advisory-committee to learn more about the agenda for or reports resulting from this meeting.

Be advised that anyone calling into the Zoom teleconference system or participating in-person that is interested in providing public comment will be asked to provide their name, title, and Tribal or organizational affiliations. Callers may expect to incur charges for calls they initiate over wireless lines, and the USDA will not refund any incurred charges.

The USDA prohibits discrimination in all its programs and activities based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Equal opportunity practices, in accordance with USDA policies, will be followed in all membership appointments to the Committee. To ensure that the recommendations of the Committee have taken into account the needs of the diverse groups served by the Department, membership shall include, to the extent practicable, individuals with demonstrated ability to represent the many communities, identities, races, ethnicities, backgrounds, abilities, cultures, and beliefs of the American people, including underserved communities. USDA is an equal opportunity provider, employer, and lender.

Dated: November 22, 2024.
Cikena Reid,
USDA Committee Management Officer.

[FR Doc. 2024-28096 Filed 11-29-24; 8:45 am]

BILLING CODE 3410-AG-P